DEPARTMENT OF JUSTICE

Civil Rights Division; Agency Information Collection Activities: Proposed Collection; Comments Requested

ACTION: 30-Day notice of information collection under review; procedures for the Administration of Section 5 of the Voting Rights Act of 1965.

The Department of Justice (DOJ), Civil Rights Division (CFT) has submitted the following information collection request to the Office of Management and Budget (OMB) for review and approval in accordance with the Paperwork Reduction Act of 1995. The proposed information collection is published to obtain comments from the public and affected agencies. This proposed information collection was previously published in the Federal Register Volume 70, Number 226, page 71171 on November 25, 2005, allowing for a 60 day comment period.

The purpose of this notice is to allow for an additional 30 days for public comment until May 3, 2006. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: Procedures for the Administration of Section 5 of the Voting Rights Act of 1965.

(3) None. Civil Rights Division.

(4) Affected Public: State, Local, or Tribal Governments

Brief Abstract: Jurisdictions covered under the Voting Rights Act may request preclearance from the Attorney General (AG) before instituting changes affecting voting. They must convince the Attorney General that voting changes are not racially discriminatory.

(5) An estimate of the total number of respondents and the amount of time estimated for an average respondent to respond/reply: It is estimated that it will take 10,103 respondents under the Procedures for the Administration of Section 5 of the Voting Rights Act of 1965 approximately 47,365 burden hours to complete the submission of voting changes.

(6) An estimate of the total public burden (in hours) associated with the collection: The total estimated annual burden hours to complete the submission of voting changes is 47,365 hours.

If additional information is required contact: Robert B. Briggs, Clearance Officer, United States Department of Justice, Justice Management Division, Policy and Planning Staff, Patrick Henry Building, Suite 1600, D Street NW., Washington, DC 20530.

Dated: February 27, 2006.
Robert B. Briggs,
Clearance Officer, Department of Justice.

[FR Doc. 06-1937 Filed 3-31-06 8:45am]

BILLING CODE 4410-18-M